DEPARTMENT OF ENERGY

Biological and Environmental Research (BER); Federal Interagency Steering Committee on Multimedia Environmental Modeling

AGENCY: Office of Science; Biological and Environmental Research (BER), Department of Energy, (DOE).

ACTION: Notice of open meeting.

SUMMARY: The annual public meeting of the Federal Interagency Steering Committee on Multimedia Environmental Modeling (ISCMEM) will convene to discuss new operational initiatives for FY 2007 as a result of the revised Memorandum of Understanding (MOU) among the participating agencies.

DATES: August 24, 2006. Time: 9:30 a.m. to 5 p.m.

ADDRESSES: The American Geophysical Union (AGU) headquarters building, 2000 Florida Avenue, NW., Washington, DC 20009.

FOR FURTHER INFORMATION CONTACT: Inquiries and notice of intent to attend the meeting may be faxed or E-mailed to: Dr. Robert T. Anderson, ISCMEM Chair, Office of Biological and Environmental Research SC-23.4 / Germantown Building, U.S. Department of Energy, 1000 Independence Avenue, SW., Washington, DC 20585-1290. Tel: 301-903-5549. Fax: 301-903-4154. Todd.Anderson@science.doe.gov.

SUPPLEMENTARY INFORMATION: Background: Nine Federal agencies have been cooperating under a MOU on the research and development of multimedia environmental models for the last 5 years. The MOU establishes a framework for facilitating cooperation and coordination among the following agencies (the specific research organization within the agency is in parenthesis): U.S. Army Corps of Engineers (Engineer Research and Development Center): U.S. Department of Agriculture (Agricultural Research Service); U.S. Department of Agriculture (Natural Resources Conservation Service); U.S. Department of Energy (Office of Biological and Environmental Research); U.S. Environmental Protection Agency; U.S. Geological Survey; U.S. National Oceanographic and Atmosphere Administration; and U.S. Nuclear Regulatory Commission (Office of Nuclear Regulatory Research); U.S. Bureau of Reclamation. These agencies are cooperating and coordinating in the research and development (R&D) of multimedia environmental models, software and related databases, including development, enhancements, applications and assessments of site specific, generic, and process-oriented multimedia environmental models as they pertain to human and environmental health risk assessment. Multimedia model development and simulation supports interagency interests in risk assessment, uncertainty analyses, water supply issues and contaminant transport. This MOU was just renewed by member agencies ensuring another 5 years of continuing collaboration and cooperation among the participating agencies in these areas.

Purpose of the Public Meeting: The annual public meeting provides an opportunity for the scientific community, other Federal and State agencies, and the public to be briefed on ISCMEM activities and their initiatives for the upcoming year, and to discuss technological advancements in multimedia environmental modeling.

Proposed Agenda: The ISCMEM Chair will open the meeting with a brief overview of the goals of the MOU, the activities of ISCMEM and changes in organizational operations as a result of the revised and renewed ISCMEM MOU. This introduction will be followed by series of invited presentations throughout the morning session focusing on topics of mutual interest to ISCMEM participants. The afternoon session will be largely devoted to discussing future goals and projects that will set the stage for collaborative interactions among ISCMEM participating agencies for the next 5 years. A detailed agenda with presentation titles and speakers will be posted on the MOU public Web site: http://www.ISCMEM.org.

Meeting Access: The headquarters of the American Geophysical Union (AGU) is located at 2000 Florida Avenue, NW., Washington, DC 20009. The most convenient transportation to the meeting venue is via Metro. Please take Metro to the Dupont Circle Metro stop on the Red Line. Take the “Q” Street exit of the Dupont Circle station. Upon exiting the Metro station proceed North on Connecticut Avenue for about 3 blocks. Turn right onto Florida Avenue for about one-half block. AGU building is on the right. Please inform the security personnel upon entering the building that you are attending the public meeting on multimedia environmental modeling. The meeting room is on the ground floor to your left as you enter the building.

Robert T. Anderson,
Chair, Federal Interagency Steering Committee on Multimedia Environmental Modeling.

[FR Doc. E6-12748 Filed 8-4-06; 8:45 am]

BILLING CODE 6450-01-P